DEPARTMENT OF HEALTH AND HUMAN SERVICES

National Institutes of Health

Proposed Collection; 60-Day Comment Request; Customer and Other Partners Satisfaction Surveys

Summary: In compliance with the requirement of Section 3506(c)(2)(A) of the Paperwork Reduction Act of 1995 for the opportunity for public comment on the proposed data collection projects, the National Institutes of Health Clinical Center (CC) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Whether the proposed collection minimizes the burden of the collection of information on those who are to respond, including the use of appropriate automated, electronic, mechanical, or other technological collection techniques or other forms of information technology.

To Submit Comments and for Further Information: To obtain a copy of the data collection plans and instruments, submit comments in writing, or request more information on the proposed project, contact: Dr. David K. Henderson, Deputy Director for Clinical Care, National Institutes of Health Clinical Center, 10 Center Drive, Bldg. 10, Rm. 6-1480, Bethesda, MD 20892 or call non-toll-free number (301) 496-3515 or email your request, including your address to: dkh@nih.gov. Formal requests for additional plans and instruments must be requested in writing.

Comment Due Date: Comments regarding this information collection are best assured of having their full effect if received within 60 days of the date of this publication.

Proposed Collection: Title: Generic Clearance for Surveys of Customers and Other Partners, 0925-0458, Expiration Date 12/31/2013, Type of Submission: Extension, National Institutes of Health Clinical Center (CC), National Institutes of Health (NIH).

Need and Use of Information Collection: The information collected in these surveys will be used by Clinical Center personnel: (1) To evaluate the perceptions of various Clinical Center customers and other partners of Clinical Center services; (2) to assist with the design of modifications of these services, based on customer input; (3) to develop new services, based on customer need; (4) to evaluate the perceptions of various Clinical Center customers and other partners of implemented service modifications, and (5) for hospital accreditation. These surveys are voluntary and necessary for the proper performance of Clinical Center functions and will almost certainly lead to quality improvement activities that will enhance and/or streamline the Clinical Center's operations. The major mechanisms by which the Clinical Center will request customer input is through surveys and focus groups. The surveys will be tailored specifically to each class of customer and to that class of customer's needs. Surveys will either be collected as written documents, as faxed documents, mailed electronically or collected via the web or by telephone from customers. Information gathered from these surveys of Clinical Center customers and other partners will be presented to, and used directly by, Clinical Center management to enhance the services and operations of our organization.

OMB approval is requested for 3 years. There are no costs to respondents other than their time. The total estimated annualized burden hours are 4,900.

FY 2014
Type of respondent | Number of respondents | Number of responses per respondent | Average time per response (in hours) | Total annual hour burden
Clinical Center Patients | 5000 | 1 | 30/60 | 2500
Family Members of Patients | 2000 | 1 | 30/60 | 1000
Visitors to the Clinical Center | 500 | 1 | 10/60 | 84
NIH Intramural Collaborators | 2000 | 1 | 10/60 | 334
Vendors and Collaborating Commercial Enterprises | 500 | 1 | 20/60 | 167
Professionals and Organizations Referring Patients | 2000 | 1 | 20/60 | 667
Regulators | 30 | 1 | 20/60 | 10
Volunteers | 275 | 1 | 30/60 | 138

FY 2015
Type of respondent | Number of respondents | Number of responses per respondent | Average time per response (in hours) | Total annual hour burden
Clinical Center Patients | 5000 | 1 | 30/60 | 2500
Family Members of Patients | 2000 | 1 | 30/60 | 1000
Visitors to the Clinical Center | 500 | 1 | 10/60 | 84
NIH Intramural Collaborators | 2000 | 1 | 10/60 | 334
Vendors and Collaborating Commercial Enterprises | 500 | 1 | 20/60 | 167
Professionals and Organizations Referring Patients | 2000 | 1 | 20/60 | 667
Regulators | 30 | 1 | 20/60 | 10
Volunteers | 275 | 1 | 30/60 | 138

FY 2016
Type of respondent | Number of respondents | Number of responses per respondent | Average time per response (in hours) | Total annual hour burden
Clinical Center Patients | 5000 | 1 | 30/60 | 2500
Family Members of Patients | 2000 | 1 | 30/60 | 1000
Visitors to the Clinical Center | 500 | 1 | 10/60 | 84
NIH Intramural Collaborators | 2000 | 1 | 10/60 | 334
Vendors and Collaborating Commercial Enterprises | 500 | 1 | 20/60 | 167
Professionals and Organizations Referring Patients | 2000 | 1 | 20/60 | 667
Regulators | 30 | 1 | 20/60 | 10
Volunteers | 275 | 1 | 30/60 | 138

Dated: October 28. 2013.
David K. Henderson,
Deputy Director for Clinical Care, CC, National Institutes of Health.

[FR Doc. 2013-26610 Filed 11-5-13; 8:45 am]

BILLING CODE 4140-01-P